DEPARTMENT OF COMMERCE

International Trade Administration

A-588-707

Notice of Extension of Deadline for the Final Results of Antidumping Duty Administrative Review: Granular Polytetrafluoroethylene Resin from Japan

AGENCY: Import Administration, International Trade Administration, Department of Commerce.

EFFECTIVE DATE: September 6, 2006.

FOR FURTHER INFORMATION CONTACT: Catherine Cartsos or Richard Rimlinger, AD/CVD Operations, Office 5, Import Administration, International Trade Administration, U.S. Department of Commerce, 14th Street and Constitution Avenue, NW, Washington, DC 20230; telephone: (202) 482-1757 and (202) 482-4477, respectively.

SUPPLEMENTARY INFORMATION:

Background

On May 11, 2006, the Department of Commerce (the Department) published the preliminary results of the 2004-2005 administrative review of the antidumping duty order covering Asahi Glass Fluoropolymers, Ltd. See Granular Polytetrafluoroethylene Resin From Japan: Preliminary Results of Antidumping Duty Administration Review, 71 FR 27459 (May 11, 2006). The final results are currently due September 8, 2006.

Extension of Time Limit for Final Results

The Tariff Act of 1930, as amended (the Act), provides at section 751(a)(3)(A) that the Department will issue the final results of an administrative review of an antidumping duty order within 120 days after the date on which the preliminary results were published. The Act provides further that, if the Department determines that it is not practicable to complete the review within this time period, the Department may extend the 120-day period to 180 days.

Due to the complexity of the level of trade issue in this review, the Department needs additional time to conduct its analysis. Therefore, we are extending the deadline for issuing the final results of this review by an additional 45 days until October 23, 2006, pursuant to section 751(a)(3)(A) of the Act and 19 CFR 351.213(h)(2).

Dated: August 29, 2006.
Stephen J. Claeys,
Deputy Assistant Secretary for Import Administration.

[FR Doc. E6-14726 Filed 9-5-06; 8:45 am]

BILLING CODE 3510-DS-P